DEPARTMENT OF HOUSING AND URBAN DEVELOPMENT

[Docket No. FR-5517-D-01]

Delegation of Authority for the Office of Policy Development and Research

AGENCY: Office of the Secretary, HUD.

ACTION: Notice of delegation of authority.

SUMMARY: In this notice, the Secretary of HUD delegates authority to the Assistant Secretary for Policy Development and Research and supersedes any prior delegation of authority from the Secretary to the Assistant Secretary for Policy Development and Research.

DATES: Effective Date: August 19, 2011.

FOR FURTHER INFORMATION CONTACT: Jean Lin Pao, General Deputy Assistant Secretary, Office of Policy Development and Research, Department of Housing and Urban Development, 451 7th Street, SW., Room 8228, Washington, DC 20410-6000, telephone number 202-708-1600. (This is not a toll-free number.) Persons with hearing or speech impairments may access this number through TTY by calling the toll-free Federal Relay Service at 1-800-877-8339.

SUPPLEMENTARY INFORMATION:

Section A. Authority Delegated

The Secretary hereby delegates to the Assistant Secretary for Policy Development and Research authority and responsibility over the Department's research agenda, including the authority to issue and waive regulations. In carrying out these responsibilities, the Assistant Secretary for Policy Development and Research shall, among other duties:

1. Undertake programs of research, study, testing, and demonstration relating to the mission and programs of the Department under Title V of the Housing and Urban Development Act of 1970 (12 U.S.C. 1701z-1).

2. Administer programs related to policy development and research as assigned by the Secretary, including the following programs:

a. The Community Development Work Study Program, under section 107(c) of Title I of the Housing and Community Development Act of 1974 (42 U.S.C. 5307(c));

b. The Community Outreach Partnership Center Program, within the Community Outreach Partnership Act of 1992 (42 U.S.C. 5307 note), and section 107 of the Housing Development Act of 1974 (42 U.S.C. 5307(b)(3));

c. The Historically Black Colleges and Universities Program, under section 107(b)(3) of the Housing and Community Development Act of 1974 (42 U.S.C. 5307(b)(3));

d. The Hispanic-Serving Institutions Assisting Communities Program, as provided for in annual HUD appropriations acts (e.g., Pub. L. 111-117, 123 Stat. 3034, approved December 16, 2009);

e. The Alaska Native/Native Hawaiian Institutions Assisting Communities program as provided for in annual HUD appropriations acts (e.g., Pub. L. 111-117, 123 Stat. 3034, approved December 16, 2009);

f. The Tribal Colleges and Universities program, as provided for in annual appropriations acts (e.g., Pub. L. 111-117, 123 Stat. 3034, approved December 16, 2009);

g. The Doctoral Dissertation Research Grant Program, as provided for in annual HUD appropriations acts (e.g., Pub. L. 111-117, 123 Stat. 3034, approved December 16, 2009); and

i. The Emergency Homeowners' Loan Program within the Emergency Homeowners' Relief Act, as amended (12 U.S.C. 2701 et seq.), in cooperation with HUD's Office of Housing and Office of the Chief Financial Officer.

3. Execute concurrent authority to carry out the duties and responsibilities authorized to the Secretary of HUD by Section 42(d)(5)(C) of the Internal Revenue Code.

Section B. Authority Excepted

The authority delegated in this document does not include the authority to sue or be sued.

Section C. Authority To Redelegate

The Assistant Secretary for Policy Development and Research is authorized to redelegate to employees of HUD any of the authority delegated under Section A, except for the authority to issue and waive regulations.

Section D. Authority Superseded

This delegation supersedes all previous delegations of authority from the Secretary to the Assistant Secretary for Policy Development and Research.

Authority: Section 7(d), Department of Housing and Urban Development Act (42 U.S.C. 3535(d)).

Dated: August 19, 2011.
Shaun Donovan,
Secretary.

[FR Doc. 2011-22172 Filed 8-29-11; 8:45 am]

BILLING CODE 4210-67-P